ENVIRONMENTAL PROTECTION AGENCY

[ER-FRL-6689-2]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070042, ERP No. D-BLM-K09809-CA, Truckhaven Geothermal Leasing Area, Addresses Leasing of Geothermal Resources, El Centro Field Office, Imperial County, CA.

Summary: EPA expressed environmental concerns about impacts on air quality, water resources, habitat, and recreational use in the OWSVRA. Additionally, EPA is concerned that the geothermal resources within the Truckhaven GLA may be underestimated, and that cumulative impacts associated with multiple geothermal projects on private and public land have not been analyzed. Rating EC2.

EIS No. 20070061, ERP No. D-BLM-K09810-CA, Mountain View IV Wind Energy Project, Construction and Operation, Wind Turbine Generators on Public Lands in Section 22 and 28 and Private Land Section 27, Right-of-Way Grant and Conditional Use Permit in the City of Palm Springs, CA .

Summary: EPA does not object to the project as proposed, but suggests incorporating additional mitigation measures to minimize air quality impacts during construction. Rating LO.

EIS No. 20070065, ERP No. D-BLM-K65326-CA, Eastern San Diego County Resource Management Plan, Implementation, San Diego County, CA.

Summary: EPA is supportive of an alternative that balances ecological and economic needs; however, the final EIS should include additional information on air and water quality impacts, existing ecological conditions, and future monitoring plans. Rating EC2.

EIS No. 20070068, ERP No. D-BLM-K65327-AZ, Ironwood Forest National Monument, Resource Management Plan, Implementation, Tucson Field Office, AZ.

Summary: EPA expressed environmental concerns about environmental impacts from off-highway vehicles (OHV), livestock grazing, and mining, and recommends restricting OHV use and implementing a biological monitoring and adaptive management plan. Rating EC2.

EIS No. 20070083, ERP No. D-SFW-K39015-CA, PROGRAMMATIC—South Bay Salt Pond Restoration Project, Restored Tidal Marsh, Managed Ponds, Flood Control Measures and Public Access Features, Don Edward San Francisco Bay National Wildlife Refuge, Alameda, Santa Clara and San Mateo Counties, CA.

Summary: EPA expressed environmental concerns about the programmatic approach taken by USFWS for the related shoreline study which exceeds the geographic scope of the salt ponds restoration project. EPA also expressed concerns about construction and operational emissions. Rating EC2.

EIS No. 20070096, ERP No. D-USA-D15000-MD, Garrison Aberdeen Proving Ground, Base Realignment and Closure Actions, Realignment of Assets and Staff, Implementation, Harford and Baltimore Counties, MD.

Summary: EPA expressed environmental concern about potential impacts to natural resources. EPA stated that this project also presents an excellent opportunity to implement the President's Executive Order 13423, Strengthening Federal Environmental, Energy and transportation management by incorporating energy efficiency into the retrofit or construction efforts for this project. Rating EC2.

EIS No. 20070049, ERP No. DA-FTA-K40208-CA, South Sacramento Corridor Phase 2, Improve Transit Service and Enhance Regional Connectivity, Funding, in the City and County Sacramento, CA.

Summary: EPA does not object to the proposed project. Rating LO.

EIS No. 20070075, ERP No. DS-APH-A99222-00, Importation of Solid Wood Packing Material, To Re-evaluate and Refine Estimates of Methyl Bromide Usage in the Treatment, Implementation, United States.

Summary: EPA does not object to the proposed action. Rating LO.

EIS No. 20070112, ERP No. DS-SFW-K99034-CA, Coachella Valley, Revision to the Multiple Species Habitat Conservation Plan (MSHCP), Natural Community Conservation Plan, Santa Rosa and San Jacinto Mountains Trails Plan, Issuance of Incidental Take Permit, Riverside County, CA.

Summary: No formal letter was sent to the preparing agency. Rating NC.

Final EISs

EIS No. 20070059, ERP No. F-NPS-K39094-NV, Clean Water Coalition Systems Conveyance and Operations Program, (SCOP) Construction, Operation and Maintenance, Boulder Islands North is the Selected Alternative, City of Las Vegas, NV.

Summary: No formal comment letter was sent to the preparing agency.

EIS No. 20070125, ERP No. F-NPS-K65082-AZ, Walnut Canyon National Monument, General Management Plan, Implementation, Flagstaff Area, Coconina County, AZ.

Summary: No formal letter was sent to the preparing agency.

EIS No. 20070136, ERP No. F-COE-K39100-CA, Hemet/San Jacinto Integrated Recharge and Recovery Program, Construction and Operation, US Army COE Section 404 Permit, Riverside County, CA.

Summary: The final EIS has addressed many of EPA's earlier concerns; however, EPA continues to express concerns about impacts to waters of the U.S. and provided several recommendations for inclusion in the Record of Decision to address those impacts.

EIS No. 20070139, ERP No. F-MMS-A02245-00, Gulf of Mexico Outer Continental Shelf Oil and Gas. Lease Sales: 2007-2012 Western Planning Area Sales 204, 207, 210, 215, and 218: Central Planning Area Sales 205, 206, 208, 213, 216, and 222, TX, LA, MS, AL and FL.

Summary: No formal comment letter was sent to the preparing agency.

EIS No. 20070146, ERP No. F-COE-K36147-CA, ADOPTION—Folsom Dam Safety and Flood Damage Reduction Project, Addressing Hydrologic, Seismic, Static, and Flood Management Issues, Sacramento, El Dorado and Placer Counties, CA.

Summary: EPA continues to express environmental concern about potential water quality impacts from future actions associated with this project.

EIS No. 20070182, ERP No. F-COE-D35062-MD, Masonville Dredged Material Containment Facility, New Information, New Source of Dike Building Material from the Seagirt Dredging Project within the Patapsco River, Funding, Baltimore, MD.

Summary: EPA's previous concerns have been resolved; therefore, EPA does not object to the proposed action.

EIS No. 20070183, ERP No. F-FHW-K40259-CA, Big Bear Lake Bridge Replacement Project, near Big Bear Lake on CA-18 from Kilopost 71.1/71.9, Realignment and Widening Roadways, U.S. COE Section 404 Permit, Funding, San Bernardino National Forest, San Bernardino County, CA.

Summary: No formal letter was sent to the preparing agency.

EIS No. 20070189, ERP No. F-NRS-D36122-WV, Dunloup Creek Watershed Plan, Voluntary Floodplain Buyout, Implementation, West Virginia Third Congressional District, Fayette and Raleigh Counties, WV.

Summary: EPA does not object to the proposed action.

EIS No. 20070179, ERP No. FS-AFS-L65509-WA, School Fire Salvage Recovery Project, To Clarify Definitions of Live and Dead Trees, Implementation, Pomeroy Ranger District, Umatilla National Forest, Columbia and Garfield Counties, WA.

Summary: EPA does not object to the proposed action; however, EPA supports the monitoring of the survival of fire-damaged trees across the project area (both inside and outside of sale units), to validate the predicted outcomes.

Dated: July 17, 2007.
Robert W. Hargrove,
Director, NEPA Compliance Division, Office of Federal Activities.

[FR Doc. E7-14107 Filed 7-19-07; 8:45 am]

BILLING CODE 6560-50-P